NUCLEAR REGULATORY COMMISSION

[Docket No. 72-3]

Carolina Power & Light Company, H.B. Robinson Independent Spent Fuel Storage Installation; Notice of Docketing of Materials License SNM-2502 Amendment Application

By letter dated August 28, 2000, Carolina Power and Light Company (CP&L) submitted an application to the Nuclear Regulatory Commission (NRC or the Commission), in accordance with 10 CFR part 72, requesting the amendment of the H. B. Robinson (HBR) independent spent fuel storage installation (ISFSI) license (SNM-2502) and the Technical Specifications for the ISFSI located at Darlington County, South Carolina. CP&L is seeking Commission approval to amend the materials license and the ISFSI Technical Specifications to revise the safeguards license condition and the Technical Specifications to reflect that the Industrial Security Plan and Safeguards Contingency Plan are combined into the Physical Security and Safeguards Contingency Plan. The revision would also clarify the text to indicate that the Training and Qualification Plan no longer contains safeguards information. Such an action would only change the reference to and the location of the Industrial Security Plan and the Safeguards Contingency Plan. The requested change does not affect the design, operation, maintenance, or surveillance of the ISFSI.

This application was docketed under 10 CFR part 72; the ISFSI Docket No. is 72-3 and will remain the same for this action. The amendment of an ISFSI license is subject to the Commission's approval.

The Director, Office of Nuclear Material Safety and Safeguards, or his designee, will determine if the amendment presents a genuine issue as to whether public health and safety will be significantly affected and may issue either a notice of hearing or a notice of proposed action and opportunity for hearing in accordance with 10 CFR 72.46(b)(1) or take immediate action on the amendment in accordance with 10 CFR 72.46(b)(2).

For further details with respect to this application, see the application dated August 28, 2000, which is available for public inspection at the Commission's Public Document Room, One White Flint North Building, 11555 Rockville Pike, Rockville, MD or from the publicly available records component of NRC's document system (ADAMS). ADAMS is accessible from the NRC Web site at Http://www.nrc.gov/NRC/ADAMS/indes.html (the Public Electronic Reading Room).

Dated at Rockville, Maryland, this 27th day of September 2000.
For the Nuclear Regulatory Commission.
Susan F. Shankman,
Acting Director, Spent Fuel Project Office, Office of Nuclear Material Safety and Safeguards.

[FR Doc. 00-25376 Filed 10-2-00; 8:45 am]

BILLING CODE 7590-01-P